COMMITTEE FOR PURCHASE FROM PEOPLE WHO ARE BLIND OR SEVERELY DISABLED

Procurement List Proposed Addition and Deletions

AGENCY: Committee for Purchase From People Who Are Blind or Severely Disabled.

ACTION: Proposed addition to and deletions from the Procurement List.

SUMMARY: The Committee is proposing to add a service to the Procurement List that will be provided by the nonprofit agency employing persons who are blind or have other severe disabilities and to delete products and a service previously furnished by such agencies.

Comments Must be Received on or Before: 1/17/2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

Due to Federal holidays occurring on Friday, December 24 and December 31, the Committee is unable to adhere to its routine practice of posting its Federal Register Notices on Friday of each week. Consequently, the Committee will publish any Notices necessary during these two holiday weeks on Thursday, December 23 and December 30. The Committee will return to its routine practice of publishing on Friday on January 7, 2011.

SUPPLEMENTARY INFORMATION: This notice is published pursuant to 41 U.S.C 47(a)(2) and 41 CFR 51-2.3. Its purpose is to provide interested persons an opportunity to submit comments on the proposed actions.

Addition

If the Committee approves the proposed addition, the entities of the Federal Government identified in this notice will be required to procure the service listed below from a nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organization that will provide the service to the Government.

2. If approved, the action will result in authorizing small entities to provide the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agency listed:

Services

Service Type/Location: Warehouse/Receiving Service, Customs and Border Protection, 1 Puntilla St, San Juan, PR.

NPA: The Corporate Source, Inc., New York, NY.

Contracting Activity: Bureau of Customs and Border Protection, National Acquisition Center, Indianapolis, IN.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

Inkjet Printer Cartridge

NSN: 7510-01-555-8067—Inkjet printer cartridge

NSN: 7510-01-555-7723—Inkjet printer cartridge

NSN: 7510-01-555-7721—Inkjet printer cartridge

NSN: 7510-01-555-7720—Inkjet printer cartridge

NSN: 7510-01-555-6173—Inkjet printer cartridge

NSN: 7510-01-555-6171—Inkjet printer cartridge

NSN: 7510-01-555-6170—compatible with Epson Part No. T018201. Tri-color

NSN: 7510-01-555-6169—Inkjet printer cartridge

NSN: 7510-01-555-6168—Inkjet printer cartridge

NSN: 7510-01-555-7722—Inkjet printer cartridge

NSN: 7510-01-555-6167—Inkjet printer cartridge

NPA: Alabama Industries for the Blind, Talladega, AL

Contracting Activity: GSA/FSS OFC SUP CTR—Paper Products, New York, NY.

Computer Accessories

NSN: 7045-01-483-9279—3½″ Drive Cleaning Kit.

NPA: Wiscraft Inc.—Wisconsin Enterprises for the Blind, Milwaukee, WI.

Contracting Activity: GSA/FSS OFC SUP CTR—Paper Products, New York, NY.

Service

Service Type/Location: Eyewear Prescription Service, Phoenix Indian Medical Center, 4212 N. 16th Street, Phoenix, AZ.

NPA: Winston-Salem Industries for the Blind, Winston-Salem, NC.

Contracting Activity: Health and Human Services, Department of, Dept of HHS, Washington, DC.

Barry S. Lineback,
Director, Business Operations.

[FR Doc. 2010-31813 Filed 12-16-10; 8:45 am]

BILLING CODE 6353-01-P